DEPARTMENT OF HEALTH AND HUMAN SERVICES

National Institutes of Health

Proposed Collection; 60-day Comment Request: Topic-based Studies for the Population Assessment of Tobacco and Health (PATH) Study

SUMMARY: In compliance with the requirement of Section 3506(c)(2)(A) of the Paperwork Reduction Act of 1995, for opportunity for public comment on proposed data collection projects, the National Institute on Drug Abuse (NIDA), the National Institutes of Health (NIH) will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact Kevin P. Conway, Ph.D., Deputy Director, Division of Epidemiology, Services, and Prevention Research, National Institute on Drug Abuse, 6001 Executive Blvd., Room 5185; Rockville, MD 20852, or call non-toll free number (301) 443-8755 or Email your request, including your address to: PATHprojectofficer@mail.nih.gov. Formal requests for additional plans and instruments must be requested in writing.

DATES: Comment Due Date: Comments regarding this information collection are best assured of having their full effect if received within 60-days of the date of this publication

Proposed Collection: Topic-based Studies for the Population Assessment of Tobacco and Health (PATH) Study, 0925-New, National Institute on Drug Abuse (NIDA), National Institutes of Health (NIH).

Need and Use of Information Collection: The PATH study will establish a population-based framework for the tracking of potential behavioral and health impacts associated with changes in tobacco products in the U.S., including those enacted under the Family Smoking Prevention and Tobacco Control Act (FSPTCA) by the Food and Drug Administration (FDA). NIDA is requesting generic approval from OMB for topic-based studies to rapidly address new and emerging issues related to PATH Study objectives. These topic-based studies will serve two primary purposes: (1) To complement and supplement the main PATH Study; and (2) to inform future content changes to the main PATH Study. These studies will add depth and context to specific issues and topics already being addressed in the main PATH Study and will help inform decisions about potential new topics to include in the next or a future annual wave of data collection. Data collection methods to be used in these topic-based studies include: in-person and telephone surveys; web and smartphone/mobile phone surveys; and focus group and individual in-depth qualitative interviews. Biospecimens may also be collected from adults.

OMB approval is requested for 3 years. There are no costs to respondents other than their time. The total estimated annualized burden hours are 29,750.

Estimated Annualized Burden Hours
Form name (Data collection activity) | Type of respondent | Number of respondents | Number of responses per respondent | Average time per response (in hours) | Total annual burden hour
In-person and telephone surveys | Adults Youth | 5,000 3,500 | 1 1 | 90/60 90/60 | 7,500 5,250
Web and smartphone/mobile phone surveys | Adults Youth | 5,000 3,500 | 1 1 | 90/60 90/60 | 7,500 5,250
Focus groups and individual in-depth qualitative interviews | Adults Youth | 1,000 1,000 | 1 1 | 2 2 | 2,000 2,000
Biospecimen collection | Adults | 1,000 | 1 | 15/60 | 250

Dated: April 10, 2013.
Glenda J. Conroy,
Executive Officer (OM Director), NIDA, NIH.

[FR Doc. 2013-08954 Filed 4-16-13; 8:45 am]

BILLING CODE 4140-01-P